DEPARTMENT OF THE INTERIOR

National Park Service

Intent To Prepare an Environmental Impact Statement for the Comprehensive Management Plan, Lewis and Clark National Historic Trail, in Illinois, Missouri, Kansas, Nebraska, Iowa, South Dakota, North Dakota, Montana, Idaho, Washington, and Oregon

AGENCY: National Park Service, DOI.

ACTION: Notice.

SUMMARY: Pursuant to Section 102(2)(C) of the National Environmental Policy Act of 1969 (42 U.S.C. 4332(2)(C)), the National Park Service (NPS) is announcing its intent to prepare an environmental impact statement (EIS) for a comprehensive management plan (CMP) for the Lewis and Clark National Historic Trail (Trail) in the states of Illinois, Missouri, Kansas, Nebraska, Iowa, South Dakota, North Dakota, Montana, Idaho, Washington, and Oregon. The EIS will be approved by the Regional Director, Midwest Region.

The CMP will prescribe the resource conditions and visitor experiences that are to be achieved and maintained for the Trail over the next 15 to 20 years. The clarification of what must be achieved according to law and policy will be based on review of the Trail's purpose, significance, special mandates, and the body of laws and policies that direct Trail administration. Based on determinations of desired conditions, the CMP will outline the kinds of resource management activities, visitor activities, and development that would be appropriate in the future. A range of reasonable management alternatives will be developed through this planning process and will include, at a minimum, no-action and the preferred alternative.

Major issues to be addressed in the CMP include: issues surrounding preserving Trail resources (such as developing management strategies to preserve and maintain historic structures and cultural landscapes, and protect archeological sites in the face of a predicted increase in visitation); issues surrounding visitor understanding; education and appreciation of park resources; and issues surrounding ensuring organizational effectiveness (such as identifying existing and potential partnerships with the state, federal, local, tribal, nonprofit organizations).

DATES: Any comments on the scope of issues to be addressed in the EIS can be received at any time after the publication of this notice in the FR. Public meetings regarding the CMP will be held during the scoping period. Specific dates, times, and locations will be made available in the local media, on the Trail Web site (http://www.nps.gov/lecl), on the NPS Planning, Environment and Public Comment (PEPC) Web site (http://parkplanning.nps.gov/lecl), or by contacting the Superintendent at the address and telephone number below.

ADDRESSES: Information on the planning process will be available from Mark Weekley, Superintendent, Lewis and Clark National Historic Trail, 601 Riverfront Drive, Omaha, Nebraska 61802, telephone 402-661-1806.

SUPPLEMENTARY INFORMATION: If you wish to comment on any issues associated with the CMP, you may submit your comments by any one of several methods. You may mail comments to Lewis and Clark National Historic Trail, 601 Riverfront Drive, Omaha, Nebraska 61802. You may provide comments electronically by entering them into the PEPC Web site at the address above. Finally, you may deliver comments to the Trail located at 601 Riverfront Drive, Omaha, Nebraska 61802.

Before including your address, telephone number, electronic mail address, or other personal identifying information in your comments, you should be aware that your entire comment (including your personal identifying information) may be made publicly available at any time. While you can ask us in your comments to withhold your personal identifying information from public review, we cannot guarantee that we will be able to do so.

Dated: September 30, 2009.
Martin A. Sterkel,
Acting Regional Director, Midwest Region.

[FR Doc. E9-27519 Filed 11-19-09; 8:45 am]

BILLING CODE P